DEPARTMENT OF COMMERCE

Patent and Trademark Office

National Telecommunications and Information Administration

[Docket No.: PTO-C-2019-0004]

Notice of Third Public Meeting on Developing the Digital Marketplace for Copyrighted Works

AGENCY: United States Patent and Trademark Office, U.S. Department of Commerce; National Telecommunications and Information Administration, U.S. Department of Commerce.

ACTION: Notice of public meeting.

SUMMARY: The Department of Commerce's internet Policy Task Force (Task Force) will hold a conference at the United States Patent and Trademark Office (USPTO) facility in Alexandria, Virginia, on March 28, 2019, to discuss current initiatives and technologies used to develop a more robust and collaborative digital marketplace for copyrighted works. In the previous public comments and meetings, the Task Force heard from stakeholders that the government can play a useful role by facilitating dialogues between and among industry sectors and by convening stakeholder groups to make recommendations on specific issues. Based on this feedback, the Task Force is organizing this meeting to build on the work of the prior meetings and continue to facilitate constructive, cross-industry dialogue about ways to promote a robust and collaborative online marketplace for copyrighted works.

DATES: The public meeting will be held on March 28, 2019, from 9:00 a.m. to 5:00 p.m., Eastern Daylight Time. Registration will begin at 8:30 a.m.

ADDRESSES: The public meeting will be held at the United States Patent and Trademark Office in the Clara Barton Auditorium (formerly the Madison Auditorium), which is located at 600 Dulany Street, Alexandria, Virginia 22314. All major entrances to the building are accessible to people with disabilities. In addition, the meeting will be webcast for public viewing.

FOR FURTHER INFORMATION CONTACT: For further information regarding the meeting, contact Kortney Hammonds or Susan Allen, Office of Policy and International Affairs, USPTO, Madison Building, 600 Dulany Street, Alexandria, Virginia 22314; telephone (571) 272-9300; email Kortney.Hammonds@uspto.gov or Susan.Allen@uspto.gov. Please direct all media inquiries to the Office of the Chief Communications Officer, USPTO, at (571) 272-8400.

SUPPLEMENTARY INFORMATION:

Background

A. Ongoing Government Engagement Relating to Copyright in the Digital Economy

The Department of Commerce established the Task Force in 2010 to identify leading public policy and operational issues affecting the U.S. private sector's ability to realize the potential for economic growth and job creation through the internet. The Task Force's July 2013 report Copyright Policy, Creativity, and Innovation in the Digital Economy (Green Paper) ¹ was the product of extensive public consultations led by the USPTO and the National Telecommunications and Information Administration (NTIA).

¹ The Green Paper is available at http://www.uspto.gov/sites/default/files/news/publications/copyrightgreenpaper.pdf.

The Green Paper devoted a chapter to “Ensuring an Efficient Online Marketplace,” which looked at then-current examples of digital licensing options, as well as impediments to their development and adoption. Such challenges included the complexity of licensing in the online environment, mapping old contracts to new uses, and cross-border licensing. The Green Paper concluded that, while the private sector would continue to make progress towards resolving online licensing issues, there may be ways in which the U.S. Government could play a helpful role on both the domestic and international fronts. Over the subsequent five years, the Task Force has solicited comments and convened public meetings to further discuss these issues.

On December 9, 2016, the Task Force held a meeting that was designed to facilitate constructive, cross-industry dialogue among stakeholders about ways to promote a more robust and collaborative online marketplace for copyrighted works. On January 25, 2018, the Task Force's meeting included panels on identification, registries, and licensing and international perspectives. These two meetings responded to stakeholder comments that the government can play a useful role by facilitating dialogues between and among industry sectors and by convening stakeholder groups to make recommendations on specific issues. They focused on initiatives in this space that relate to standards development, interoperability across digital registries, and cross-industry collaboration, to understand the current state of affairs, identify challenges, and discuss paths forward. They also provided an opportunity to explore potential approaches to the future adoption and integration of relevant emerging technologies into the online marketplace, such as blockchain technology and open-source platforms.

The Task Force notes that the United States Copyright Office is engaged in several endeavors that may inform this March event. In support of its statutory work, the Copyright Office is currently engaged in: (1) Developing a new enterprise copyright system to improve the current registration system and revolutionize the current paper-based system of recordation of documents; ² (2) continuing its multiyear project converting the extensive, paper-based pre-1978 historical records into digital format for improved public access, enhanced online search capabilities, and continued record preservation, including releases of a Virtual Card Catalog proof of concept; ³ (3) implementing various elements of the new Music Modernization Act (MMA), a major legislative change updating the music licensing system; ⁴ (4) producing policy studies that address issues affecting online licensing and related issues, ranging from recordation ⁵ to music licensing ⁶ to the right of making available ⁷ to visual works; ⁸ and (5) issuing notices of inquiry, notices of proposed rulemakings and final rules on numerous areas addressing registration ⁹ and recordation practices in order to improve both office practices and the copyright marketplace.¹⁰

² U.S. Copyright Office, Modified U.S. Copyright Office Provisional IT Modernization Plan: Analysis of Shared Services, Support Requirements, and Modernization Efforts (2017), at https://www.copyright.gov/reports/itplan/modified-modernization-plan.pdf; see also the Office's web page on Copyright Modernization at https://www.copyright.gov/copyright-modernization/.

³ U.S. Copyright Office, Virtual Card Catalog (VCC) Proof of Concept, at https://vcc.copyright.gov/.

⁴ U.S. Copyright Office, Orrin G. Hatch-Bob Goodlatte Music Modernization Act, at https://www.copyright.gov/music-modernization/.

⁵ U.S. Copyright Office, Transforming Document Recordation at the United States Copyright Office (2014), at https://www.copyright.gov/docs/recordation/recordation-report.pdf.

⁶ U.S. Copyright Office, Copyright and the Music Marketplace (2015), at https://www.copyright.gov/policy/musiclicensingstudy/copyright-and-the-music-marketplace.pdf.

⁷ U.S. Copyright Office, The Making Available Right in the United States (2016), at https://www.copyright.gov/docs/making_available/making-available-right.pdf.

⁸ U.S. Copyright Office, Letters to the House and Senate Judiciary Committees on Copyright and Visual Works: The Legal Landscape of Opportunities and Challenges (2019), at https://www.copyright.gov/policy/visualworks/.

⁹ See U.S. Copyright Office, Registration Modernization, 83 FR 52336 (Oct. 17, 2018), see also at https://www.copyright.gov/rulemaking/reg-modernization/.

¹⁰ For a list of the U.S. Copyright Office's open and closed rulemakings, see the Copyright Office's web page at https://www.copyright.gov/ rulemaking/.

B. The Focus of This Meeting

In the previous public comments and meetings, the Task Force heard from stakeholders that the government can play a useful role by facilitating dialogues between and among industry sectors and by convening stakeholder groups to make recommendations on specific issues. Based on this feedback, the Task Force is organizing this meeting to build on the work of the prior meetings and continue to facilitate constructive, cross-industry dialogue about ways to promote a robust and collaborative online marketplace for copyrighted works. We will discuss the potential for interoperability across digital registries and standards work in this field, and consider how the relevant emerging technologies (e.g., blockchain technology, artificial intelligence) are developing. We will also explore potential approaches to their future adoption and integration into the online marketplace.

Topics to be covered will include: (1) Initiatives to advance the digital content marketplace, with a focus on standards, interoperability, and digital registries and database initiatives to track ownership and usage rights; (2) innovative technologies designed to improve the ways consumers access and use different types of digital content (e.g., photos, film, music); (3) ways that different sectors can collaborate to promote a robust interconnected digital content marketplace; and (4) the role of government in facilitating such initiatives and technological development. Members of the public will have opportunities to participate at the meeting.

C. Public Meeting

On March 28, 2019, the Task Force will hold a public meeting to hear stakeholder input and to consider future work in this area. The event will facilitate participation and dialogue among interested stakeholders, including creators, right holders, and online services that produce and distribute copyright protected digital content, as well as technologists, cultural heritage institutions, public interest groups, and academics.

The meeting will be webcast. The agenda and webcast information will be available no later than the week prior to the meeting on the internet Policy Task Force website, at https://www.ntia.doc.gov/internetpolicytaskforce, and the USPTO's website at http://bit.ly/2HcY5VU.

The meeting will be open to members of the public to attend, space permitting, on a first-come, first-served basis. Online registration for the meeting, which is not mandatory, is available at http://bit.ly/2HcY5VU. The meeting will be physically accessible to people with disabilities. Individuals requiring accommodation, such as sign language interpretation, real-time captioning of the webcast or other ancillary aids, should communicate their needs to Kortney Hammonds, Office of Policy and International Affairs, United States Patent and Trademark Office, Madison Building, 600 Dulany Street, Alexandria, Virginia 22314; telephone (571) 272-9300; email Kortney.Hammonds@USPTO.gov, at least seven business days prior to the meeting.

Dated: March 14, 2019.
Andrei Iancu,
Under Secretary of Commerce for Intellectual Property and Director of the United States Patent and Trademark Office, United States Patent and Trademark Office.
David J. Redl,
Assistant Secretary for Communications and Information, National Telecommunications and Information Administration.

[FR Doc. 2019-05116 Filed 3-18-19; 8:45 am]

BILLING CODE 3510-16-P